FEDERAL COMMUNICATIONS COMMISSION

47 CFR Part 64

[WC Docket No. 12-375; FCC 22-76; FR ID 193391]

Rates for Interstate Inmate Calling Services; Correction

AGENCY: Federal Communications Commission.

ACTION: Final rule; announcement of effective date; correction and establishment of applicability.

SUMMARY: The Federal Communications Commission (Commission) published a document in the Federal Register of January 3, 2024, announcing that the Office of Management and Budget (OMB) had approved, for a period of three years, an information collection associated with the Commission's 2022 ICS Order, FCC 22-76 (September 30, 2022). The document incorrectly announced an effective date for an amendment published on December 9, 2022, which triggered its codification into the CFR on December 21, 2023. This document establishes the applicability of OMB's approval, published on January 3, 2024.

DATES: As of January 16, 2024, the final rule announcing the effective date for 47 CFR 64.6040(c), published January 3, 2024, at 89 FR 269, is corrected to provide an applicability date of January 16, 2024.

FOR FURTHER INFORMATION CONTACT: William Kehoe, Pricing Policy Division, at (202) 418-7122, or email: William.Kehoe@fcc.gov.

SUPPLEMENTARY INFORMATION: On December 9, 2022, at 87 FR 75496, the Commission published a final rule amending 47 CFR 64.6040, effective January 9, 2023, by adding paragraph (c). The addition of paragraph (c) to § 64.6040 (amendatory instruction 11) was delayed indefinitely.

On December 21, 2023, at 88 FR 88257, the Commission announced the effective date of December 21, 2023 (with an implied applicability date of December 21, 2023), for § 64.6040(c) and other amendments in the December 2022 rule. That effective date for § 64.6040(c) in the December 21, 2023 document was established in error, but that error went undetected until the publication of the second effective date announcement on January 3, 2024, which contained a second incorrect effective date (with implied applicability date) of January 9, 2023.

Therefore, the announcement of effective date, published January 3, 2024, at 89 FR 269, is corrected as follows:

Correction

In FR Doc. 2023-28765, published in the Federal Register of January 3, 2024 (89 FR 269), on page 269, in the second column, correct the DATES section to read:

DATES: As of December 21, 2023, the applicability of 47 CFR 64.6040(c) is delayed until January 16, 2024.

Federal Communications Commission
Katura Jackson,
Federal Register Liaison Officer.

[FR Doc. 2024-00350 Filed 1-12-24; 8:45 am]

BILLING CODE 6712-01-P